Title 3—

The President

Proclamation 9345 of October 9, 2015

National School Lunch Week, 2015

By the President of the United States of America

A Proclamation

America's schools strive to empower students with the tools and learning opportunities they need to pursue a tomorrow of endless possibility. In addition to serving as critical foundations for an education, schools are often the only stable source of health and nutrition for many of our children. The National School Lunch Program does more than simply provide students with one of our most basic human needs—it gives them the strength to focus on reaching for their greatest aspirations, rather than worrying about where their next meal will come from. During National School Lunch Week, we rededicate ourselves to safeguarding our Nation's future by providing our children with the support and nourishment they need to maintain healthy lifestyles, and we thank the school administrators, educators, and cafeteria workers who, alongside devoted parents, caregivers, and guardians, work together to achieve this goal.

By signing the National School Lunch Act in 1946, President Harry Truman recognized the tremendous role food security plays in the academic and overall success of America's youth. This groundbreaking legislation created the National School Lunch Program, which provides lunches—either subsidized or at no cost—to millions of students in over 100,000 schools. At the heart of this program lies a commitment to uphold one of our country's core principles: that all children should have the chance to live up to their fullest potential and be bound by nothing more than the scope of their dreams.

One in three children in our Nation is overweight or obese—and those rates are even higher in African-American, Hispanic, and Native American communities. Those who lack proper nutrition or do not lead an active lifestyle are far less likely to perform well in school and are more likely to experience health problems such as heart disease, cancer, asthma, and diabetes in the future. For many young people across America, particularly those from low-income communities, the meals their school provides are their most consistent source of food and nutrition.

My Administration remains committed to inspiring students to live a healthy, balanced lifestyle. First Lady Michelle Obama's Let's Move! initiative has encouraged schools to provide nutritious food and help students make educated decisions about the food they eat each day. Because of these efforts, thousands of schools across America have answered the HealthierUS School Challenge with commonsense standards for the health, physical activity, and nutritional awareness of our country's students. And since I signed the Healthy, Hunger-Free Kids Act into law in 2010, we have ensured healthy meals are available for millions of students—even after classes have finished for the year. By working to encourage students to eat right and make healthy choices today, we can help ensure these positive habits continue throughout their lives.

Despite the progress we have made, more must be done to safeguard a bright and healthy future for our children and our Nation. Schools should foster an environment where young people acquire the knowledge and skills needed to make smart choices about what they eat, and healthy school meals should give children the fuel to work hard, grow, and succeed. During National School Lunch Week, I encourage everyone—students, educators, and parents alike—to add more greens to their plates and increase the amount of physical activity in their daily routines. Even small steps, like going for a walk or choosing fruits and vegetables over salty snacks and sweets, help set a positive example and instill the healthy habits our Nation's children need. Together—as families, neighbors, and friends—we can turn these small steps into national action and make a transformative impact.

The Congress, by joint resolution of October 9, 1962 (Public Law 87-780), as amended, has designated the week beginning on the second Sunday in October each year as “National School Lunch Week” and has requested the President to issue a proclamation in observance of this week.

NOW, THEREFORE, I, BARACK OBAMA, President of the United States of America, do hereby proclaim October 11 through October 17, 2015, as National School Lunch Week. I call upon all Americans to join the dedicated individuals who administer the National School Lunch Program in appropriate activities that support the health and well-being of our Nation's children.

IN WITNESS WHEREOF, I have hereunto set my hand this ninth day of October, in the year of our Lord two thousand fifteen, and of the Independence of the United States of America the two hundred and fortieth.

[FR Doc. 2015-26584

Filed 10-16-15; 8:45 am]

Billing code 3295-F6-P